NUCLEAR REGULATORY COMMISSION

[Docket No. 50-188]

Kansas State University Triga Mark II Nuclear Reactor; Notice of Issuance of Environmental Assessment and Finding of No Significant Impact

The U.S. Nuclear Regulatory Commission (NRC) is considering issuance of a renewed Facility License No. R-88, to be held by Kansas State University (the licensee), which would authorize continued operation of the Kansas State University TRIGA Mark II nuclear reactor (KSU TRIGA), located in Manhattan, Riley County, Kansas. Therefore, pursuant to 10 CFR 51.21, the NRC is issuing this Environmental Assessment and Finding of No Significant Impact.

Description of Proposed Action

The proposed action would renew Facility License No. R-88 for a period of twenty years from the date of issuance of the renewed license, and would increase the licensed maximum steady-state power level to 1.25 megawatts thermal power (MW(t)) and the maximum pulse reactivity insertion. The proposed action is in accordance with the licensee's application dated September 12, 2002, as supplemented on November 11, and November 13, 2002; December 21, 2004; July 6, and September 27, 2005; March 20, March 30, June 28, and September 28, 2006; May 17, June 4, September 12, and October 11, 2007; and February 6, 2008. In accordance with 10 CFR 2.109, the license remains in effect until the NRC takes final action on the renewal application.

The KSU TRIGA is located in the north wing of Ward Hall in the northwest sector of the University campus near the center of the city of Manhattan, Kansas. The reactor is housed in the reactor bay, a reinforced concrete and structural steel building which serves as a confinement. The KSU TRIGA site comprises the entire building and the fenced areas immediately surrounding the building. There are no nearby industrial, transportation, or military facilities that could pose a threat to the KSU TRIGA.

The KSU TRIGA is a pool-type, light water moderated and cooled research reactor currently licensed to operate at a steady-state power level of 250 kilowatts thermal power (kW(t)). The reactor is licensed to operate in a pulse mode, with a maximum pulse thermal power of 250 MW(t). A detailed description of the reactor can be found in the KSU TRIGA Safety Analysis Report (SAR).

As part of the proposed action the licensee has requested an increase in the licensed maximum steady-state power level, an increase in the maximum reactivity insertion and authorization to install an additional control rod to support operation at the increased power level. The proposed action will not significantly increase the probability of accidents. The proposed action may increase the consequences of accidents, but will not result in doses in excess of the limits specified by 10 CFR Part 20. No changes are being made in the types of effluents that may be released off site. There should be no significant increase in routine occupational or public radiation exposure. Therefore, the proposed action should not significantly change the environmental impact of facility operation.

Summary of the Environmental Assessment

The NRC staff reviewed the licensee's application which included an Environmental Report. To document its review, the NRC staff has prepared an environmental assessment (EA) which discusses the KSU TRIGA site and facility; radiological impacts of gaseous, liquid, and solid effluents; environmental and personnel radiation monitoring; radiation dose estimates for the maximum hypothetical accident (MHA); impacts of the “no action” alternative to the proposed action; alternative use of resources; considerations related to the National Environmental Policy Act (NEPA); and presents the radiological and non-radiological environmental impacts of the proposed action.

Finding of No Significant Impact

On the basis of the environmental assessment, the NRC concludes that the proposed action will not have a significant effect on the quality of the human environment. Accordingly, the NRC has determined not to prepare an environmental impact statement for the proposed action.

For further details with respect to the proposed action, see the licensee's letter dated September 12, 2002 (ML022620007, ML022620011, ML022620643, ML022630012, ML022630054, ML022630077), as supplemented on November 11, 2002 (ML023190241); November 13, 2002 (ML023190219); December 21, 2004 (ML052580517); July 6, 2005 (ML051960517, ML051960520, ML051960521, ML051960522, ML052580519, ML052590053); September 27, 2005 (ML052760292); March 20, 2006 (ML061640472); March 30, 2006 (ML061010264); June 28, 2006 (ML070660601); September 28, 2006 (ML063070520); May 17, 2007 (ML071430200); June 4, 2007 (ML071630328); September 12, 2007 (ML072680471); October 11, 2007 (ML072970624) and February 6, 2008 (ML080500366). Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the NRC Web site, http://www.nrc.gov/reading-rm/adams.html. The EA can be found in ADAMS under Accession Number ML063190172. Persons who do not have access to ADAMS or who encounter problems in accessing the documents located in ADAMS should contact the NRC PDR Reference staff at 1-800-397-4209, or 301-415-4737, or send an e-mail to pdr@nrc.gov.

Dated at Rockville, Maryland, this 20th day of February, 2008.
For the Nuclear Regulatory Commission.
Daniel S. Collins,
Chief, Research and Test Reactors Branch A, Division of Policy and Rulemaking, Office of Nuclear Reactor Regulation.

[FR Doc. E8-3598 Filed 2-25-08; 8:45 am]

BILLING CODE 7590-01-P